DEPARTMENT OF THE INTERIOR

National Park Service

Notice of Intent to Repatriate Cultural Items in the Possession of the Peabody Museum of Archaeology and Ethnology, Harvard University, Cambridge, MA

AGENCY: National Park Service, Interior.

ACTION: Notice.

Notice is hereby given under the Native American Graves Protection and Repatriation Act, 43 CFR 10.10 (a)(3), of the intent to repatriate cultural items in the possession of the Peabody Museum of Archaeology and Ethnology, Harvard University, Cambridge, MA, that meet the definition of “unassociated funerary object” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 59 cultural items are brass beads.

Prior to 1895, these cultural items were collected from a grave near Yantic, MT, by Rev. J.W. Millar. In 1909, these cultural items were donated to the Peabody Museum of Archaeology and Ethnology by Lewis H. Farlow.

Museum records indicate that these cultural items were “from a ‘dug out' house grave” and are attributed to the Cree. The specific cultural attribution indicates that the collector was aware of the cultural affiliation of the burial and suggests that it dated to historic times. Based on the specific cultural attribution in museum records, the 19th century date of the burial, and geographical location within the historic territory of the Cree, these cultural items are considered to be affiliated with the Chippewa-Cree Indians of the Rocky Boy's Reservation, Montana; and the Turtle Mountain Band of Chippewa Indians of North Dakota.

Based on the above-mentioned information, officials of the Peabody Museum of Archaeology and Ethnology have determined that, pursuant to 43 CFR 10.2 (d)(2)(ii), these cultural items are reasonably believed to have been placed with or near individual human remains at the time of death or later as part of the death rite or ceremony and are believed, by a preponderance of the evidence, to have been removed from a specific burial site of an Native American individual. Officials of the Peabody Museum of Archaeology and Ethnology also have determined that, pursuant to 43 CFR 10.2 (e), there is a relationship of shared group identity that can be reasonably traced between these cultural items and the Chippewa-Cree Indians of the Rocky Boy's Reservation, Montana; and the Turtle Mountain Band of Chippewa Indians of North Dakota. This notice has been sent to officials of the Chippewa-Cree Indians of the Rocky Boy's Reservation, Montana; and the Turtle Mountain Band of Chippewa Indians of North Dakota. Representatives of any other Indian tribe that believes itself to be culturally affiliated with these unassociated funerary objects should contact Barbara Isaac, Repatriation Coordinator, Peabody Museum of Archaeology and Ethnology, 11 Divinity Avenue, Cambridge, MA 02138, telephone (617) 495-2254, before April 19, 2001. Repatriation of these unassociated funerary objects to the Chippewa-Cree Indians of the Rocky Boy's Reservation, Montana; and the Turtle Mountain Band of Chippewa Indians of North Dakota may begin after that date if no additional claimants come forward.

Dated: February 23, 2001.
John Robbins,
Assistant Director, Cultural Resources Stewardship and Partnerships.

[FR Doc. 01-6842 Filed 3-19-01; 8:45 am]

BILLING CODE 4310-70-F